DEPARTMENT OF TRANSPORTATION

Federal Highway Administration

Amber Plan Program Support Assistance; Request for Applications

AGENCY: Federal Highway Administration (FHWA), DOT.

ACTION: Notice; request for applications.

SUMMARY: This document requests applications for assistance from public agencies in supporting Amber Plan Programs in each State. The U.S. DOT Amber Plan Grant Program will provide up to seven million dollars in grants to States (including Puerto Rico and the District of Columbia) to fund the application of Intelligent Transportation Systems to facilitate the inclusion of State and local transportation agencies into existing or proposed Amber Plan Programs. The intent is to provide funds to States for the purpose of planning the systems and procedures necessary to incorporate various traveler information systems such as changeable message signs (CMS) in the issuance of Amber Alerts.

DATES: Applications for Amber Plan Program support assistance must be received prior to August 1, 2003. Decisions regarding the acceptance of specific applications for funding will be made within 60 business days of receipt.

ADDRESSES: Applications for Amber Plan Program support assistance should be submitted electronically via e-mail to AMBERPLAN@FHWA.DOT.GOV, or mailed directly to the Federal Highway Administration, Intelligent Transportation Systems (ITS) Joint Program Office, Amber Plan Support, HOIT-1, 400 Seventh St., SW., Room 3416, Washington, DC 20590-0001.

FOR FURTHER INFORMATION CONTACT: Mr. Robert Rupert, Office of Transportation Management (HOTM-1), (202) 366-2194; Mr. Craig Allred, ITS Joint Program Office (HOIT-1), (202) 366-8034; or Ms. Gloria Hardiman-Tobin, Office of Chief Counsel (HCC-40), (202) 366-0780; Department of Transportation, Federal Highway Administration, 400 Seventh Street, SW., Washington, DC 20590-0001. Office hours are from 8 a.m. to 4:30 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's Home page at http://www.archives.gov/federal_register and the Government Printing Office's Web page at http://www.access.gpo.gov/nara.

The document may also be viewed at the DOT's ITS Home page at http://www.its.dot.gov.

Background

The Amber Plan Program is a voluntary program where law enforcement agencies partner with broadcasters to issue an urgent bulletin in the most serious child abduction cases. These bulletins notify the public about abductions of children. The U.S. DOT recognizes the value of the Amber Plan Program and fully supports the State and local governments' choice to implement this program.

Alerts of recent serious child abductions may be communicated through various means including radio and television stations, highway advisory radio, changeable message signs (CMS), and other media. Under certain circumstances, using CMS to display child abduction messages as part of an Amber Plan Program has been determined to be consistent with current FHWA policy governing the use of CMS and the type of messages that are displayed. The FHWA, in fact, recently issued a policy memorandum that supports the use of changeable message signs (CMS) for Amber Alerts. This memorandum may be viewed at the following url: http://ops.fhwa.dot.gov/Travel/reports/amber.htm.

A key factor in the success of the Amber Plan Program is the need for public agencies to develop formal Amber Plan policies that include a sound set of procedures for calling an Amber Alert. If public agencies decide to display an Amber Alert or child abduction messages on a CMS, the FHWA has determined that this application is acceptable only if it is part of a well-established local Amber Plan Program, and public agencies have developed a formal policy that governs the operation and messages that are displayed on CMS.

Local Amber Plan Programs should include written criteria for issuing and calling off an Amber Alert, procedures on issues to coordinate with local agencies and other interests, and should conform to the recommendations of the National Amber Plan Program. Information about the National Amber Plan Program may be found at the following url: http://www.missingkids.com/html/amberplan.html. The general criteria for issuing an Alert and the associated procedures may include confirmation that a child has been abducted; belief that the circumstances surrounding the abduction indicate that the child is in danger of serious bodily harm or death, and enough descriptive information about the child, abductor, and/or suspect's vehicle to believe an immediate broadcast alert will help.

Of specific interest to the U.S. DOT are that these policies and procedures provide specific guidance on displaying Amber Alert or child abduction messages on CMS. Such guidance should address items such as the criteria when CMS will be used for Amber Alerts; clear identification of the law enforcement agency responsible for issuing the alert; which agencies, interests, and persons are to be contacted to initiate or call off an Amber Alert; circumstances under which the Amber Alert message could or could not be displayed; length of time to display the message; geographic area over which the information is to be displayed; circumstances that would cause the discontinuation of use of the CMS if the Amber Alert message creates an adverse traffic impact; and format and content of the messages to be displayed.

In general, the Amber Plan Program has proven to be a very effective yet relatively simple and inexpensive program to implement. However, the inclusion of the transportation community and the use of various highway advisory systems such as CMS as part of an Amber Plan Program has exposed several issues that need to be addressed in order for such use to be effective and an appropriate use of the advanced technology may be appropriate.

One key issue that has broad implications beyond Amber Alerts is the lack of well established communication systems and protocols between the public safety community and the transportation community or the inability of such systems to be used for the purposes of conveying Amber Alert information among agencies. Currently most Amber Alerts are communicated to Transportation Operations Centers by telephone or facsimile. While there is no evidence that these relatively informal “low-tech” arrangements are not effective, such an informal system, dependant on simple communication methods, certainly has the potential for problems such as missed calls, data errors, and erroneous or false alerts. Furthermore, the lack of formal communication links has larger implications for highway incident response, hazmat incidents, natural disasters, and security related events. A number of jurisdictions have identified this broader need for communication and have established communication systems among the various public safety and transportation agencies to report and coordinate response to incidents but it is not clear whether any of these systems have been used for Amber Alerts.

Another obstacle that has been identified is the lack of capability for jurisdictions to issue area wide messages on CMS or other traveler information systems. These systems are generally intended to alert motorists to a localized condition (e.g., an incident on a specific roadway). As a result, in some jurisdictions, the systems that control these signs are not capable of posting the same message on all signs across a region. The result in the case of an Amber Alert is a rather labor intensive and time consuming process to change the message on the signs one sign at a time. Currently several of these jurisdictions are exploring ways to upgrade their systems to provide such capability. This has implications for other area wide situations such as a major natural disaster or security related event where evacuation or other critical information may need to be conveyed to motorists over a broad region.

A third issue that can impact the appropriate use of CMS for Amber Alerts is the fact that many transportation operation centers are not staffed around the clock. In those cases, if an Amber Alert or other critical message needs to be posted on CMS, an off-duty operator has to be contacted by an appropriate authority so he or she can return to the operations center and post the message. Another option is to give a public safety agency the capability and authority to post such messages during off hours. In some jurisdictions, this problem has been resolved by linking operations centers and providing for the transfer of control to a designated back-up center. In some cases these back-up centers are continuously operated Transportation Operation Centers; in other cases, these are emergency response centers (e.g., police dispatch centers). In either case, both technological and institutional issues must be resolved to provide this important functionality.

Another concern is that jurisdictions must have the basic capability to communicate such information to motorists via CMS or other traveler information systems. Currently, CMS deployment is largely limited to urban freeways, and even in some of our largest metropolitan areas, the numbers of such signs are often limited. While it is not practical to widely deploy such systems for the specific purposes of issuing Amber Alerts, there is some value to increasing our overall capability to communicate with motorists. Exploring and planning alternative methods of providing information to travelers and expanding the use of such systems for such purposes as Amber Alerts should be pursued.

Finally, there is the issue of the message to be conveyed. There is anecdotal evidence of Amber Alerts being provided by multi-panel messages containing details such as the type of vehicle, the license plate number, and the ten-digit number to call adversely impact traffic as drivers attempted to read and possibly copy all the relevant information. Clearly, it is important to ensure that these signs are properly and safely used as part of an overall effort to provide information on Amber Alerts.

Objectives of the Amber Alert Grant Program

The proposed U.S. DOT Amber Plan Grant Program will provide up to $7 million in grants to States (including Puerto Rico and the District of Columbia) to fund the application of Intelligent Transportation Systems (ITS) to facilitate the inclusion of State and local transportation agencies into existing or proposed Amber Plan Programs. The intent is to facilitate, through the use of advanced technologies, the seamless coordination between law enforcement agencies and transportation communities necessary to implement an Amber Alert using changeable message signs or other traveler information systems and to improve our overall capability of communicating Amber Alerts and other important information to motorists.

Each State (including Puerto Rico and the District of Columbia) may apply for a grant of $125,000 for planning, coordinating and designing of systems, protocols, and message sets that support the coordination and communication necessary to issue an Amber Alert and to provide the means to communicate an Amber Alert to motorists. This funding would ensure that the notification is well designed and integrated between the law enforcement and transportation communities.

Once such planning has been completed, any remaining funds from the grant could be used to support the implementation of systems that will support the dissemination of Amber Alert messages via CMS or other traveler information systems.

Funding

The instrument to provide funding, on a cost reimbursable basis, will be a Federal-aid project agreement. Federal funding authority is derived from § 5001(a)(5) of the Transportation Equity Act for the 21st Century (TEA-21), Pub. L. 105-178, 112 Stat. 107, 419 (1998). Actual award of funds will be subject to funding availability. Federal ITS funding for Amber Plan support assistance may be used as necessary for:

1. Developing general policies and procedures that would guide the use of CMS or other motorist information systems to issue Amber Alerts.

2. Developing guidance or policies on the content and format of alert messages being conveyed on CMS or other traveler information systems.

3. Coordinating State, regional, and local plans for use of CMS or other transportation related issues.

4. Planning secure and reliable communications systems and protocols between public safety and transportation agencies or modify existing communications systems to support Amber Alerts.

5. Planning and designing improved systems for communicating with motorists including the capability for issuing wide area alerts to motorists.

6. Planning systems and protocols to facilitate the efficient issuance of Amber Alerts and other key information to motorists during off-hours.

7. Providing training and guidance to transportation authorities to facilitate appropriate use of CMS and other traveler information systems for Amber Alerts.

Once these eligible activities are complete, any remaining funding allocated under agreements resulting from this request may be used to implement the systems that will support the dissemination of Amber Alert messages via CMS or other traveler information systems. This includes systems necessary to establish the necessary communications between appropriate public safety and transportation agencies to post Amber Alerts on CMS; systems necessary to provide for wide area alerts to motorists; and systems necessary for 24-hour operation of such systems. Note: The actual purchase of CMS or other on-street or in-vehicle hardware is not eligible for funding under this program.

Matching Share/Cost Sharing

There is a statutorily required minimum twenty percent matching share that must be from non-federally derived funding sources, and must consist of either cash, substantial equipment contributions that are wholly utilized as an integral part of the project, or personnel services dedicated full-time to the project for a substantial period, as long as such personnel are not otherwise supported with Federal funds.¹ The non-federally derived funding may come from State, local government, or private sector partners. However, funding identified to support continued operations, maintenance, and management of the system will not be considered as part of the partnership's cost-share contribution.

¹ See § 5001(b) of the Transportation Equity Act for the 21st Century, Pub. L. 105-178; 112 Stat. 107, June 1998.

Offerors are encouraged to consider additional matching share above the required minimum match described above. Those offerors willing to propose additional match may include the value of federally supported projects directly associated with the proposed project.

Grantees shall maintain financial records that detail the activities provided by Federal funding, indicating appropriate total matching requirements, as described under the heading, Matching Share/Cost Sharing. The U.S. DOT and the Comptroller General of the United States have the right to access all documents pertaining to the use of Federal ITS funds and non-Federal contributions. Grantees and sub-grantees are responsible for obtaining audits in accordance with the Single Audit Act Amendments of 1996 (31 U.S.C. 7501-7507) and revised Office of Management and Budget (OMB) Circular A-133, Audits of States, Local Governments, and Non-Profit Organizations, dated June 24, 1997, that is available at the following url: http://www.whitehouse.gov/omb/circulars/a133/a133.html. The audits shall be conducted by an independent auditor in accordance with generally accepted government auditing standards covering financial audits found at 49 CFR 18.26.

Instructions to Applicants

An application for Amber Plan program assistance shall consist of two parts: (1) A proposed technical approach; and (2) a financial plan. Together these two elements must describe the proposed activities to be conducted with this funding. The complete application shall not exceed 15 pages in length, including the Amber Plan Approach, the Financial Plan, the title page, index, and tables. A page is defined as one side of an 8½ by 11-inch paper, with a type font no smaller than 12 point.

Applications shall be submitted in an electronic format compatible with Microsoft Office 2000. The cover sheet or title page of the application shall include the name, address, and phone number of an individual to whom correspondence and questions about the application may be directed. Any portion of the application or its contents that may contain proprietary information shall be clearly indicated; otherwise, the application and its contents shall be non-proprietary.

Application Content

Applicants must submit an acceptable Technical Approach and Financial Plan that together provide sound evidence that the objectives of this program can successfully be completed in a timely fashion.

Applications should be organized into the following two sections:

1. Technical Approach

The application should describe the proposed approach for establishing the systems, protocols and message sets necessary for posting of Amber Alert messages on CMS and other traveler information systems. The following paragraphs illustrate the general information that applicants should include in this section of the application.

(A) The application should identify candidate agencies or organizations that will be engaged in the proposed activities. These organizations may include, but not be limited to: highway agencies, public safety agencies, sources of traveler information, and commercial radio and television stations. It is expected that the slate of organizations, agencies, and firms involved in developing an Amber Plan Program will be adjusted as deployment plans are developed.

(B) The application should discuss institutional or organizational issues that will affect the Amber Plan Program and the involvement of the transportation community in that program, and what candidate techniques or activities will be used to address these issues. Prior activities that identified or addressed Amber Plan Program issues may be described in this section to provide a complete portrayal of the breadth of effort by the applicant to develop a plan for regional deployment.

(C) The application should describe the expected product(s) of the activities described in paragraph (B) of this section. It is expected that reports, plans, presentations, or other products would be produced by these activities for use by the applicant. The applicant should propose which of these products may serve as deliverables to the ITS-JPO under any resultant agreement from this request. The final deliverables will be determined in negotiations between the ITS-JPO and the selected locations.

(D) The application should include a proposed schedule or timeline for completion of the proposed activities and outputs for which the grant will be used. The schedule should include milestone events or targeted activities, especially indicating any activities that require ITS-JPO actions or actions by organizations typically not influenced by the applying agency. Additionally, the schedule should also indicate targets for delivery of any products or outputs from development activities.

2. Financial Plan

The Financial Plan should demonstrate that sufficient funding is available to successfully complete all aspects of the proposed development of the plans and designs described in section 1. Additionally, the Financial Plan shall provide the financial information described under the heading, Matching Share/Cost Sharing.

An acceptable Financial Plan should:

(A) Provide a clear identification of the proposed funding for activities leading to the development of a comprehensive plan for issuing Amber Alerts, and a commitment that no more than 80 percent of the total cost will be supported by Federal ITS funds. As appropriate, financial commitments from other public agencies and from private firms should be documented appropriately, such as through memorandums of understanding.

(B) Describe how the proposed systems will be developed to ensure their timely implementation and the continued long-term operations of the systems.

(C) As appropriate, include corresponding public and/or private investments that minimize the relative percentage and amount of Federal ITS funds. Also include evidence of continuing fiscal capacity and commitment from anticipated public and private sources.

Authority: Sec. 5001(a)(5), Pub. L. 105-178, 112 Stat. 107, 420; 23 U.S.C. 315; and 49 CFR 1.48.

Issued on: February 6, 2003.
Mary E. Peters,
Federal Highway Administrator.

[FR Doc. 03-3501 Filed 2-11-03; 8:45 am]

BILLING CODE 4910-22-P